ENVIRONMENTAL PROTECTION AGENCY

40 CFR Part 82

[FRL-6585-3]

RIN 2060-AG12

Protection of Stratospheric Ozone; Listing of Substitutes for Ozone-Depleting Substances

AGENCY: Environmental Protection Agency.

ACTION: Final rule.

SUMMARY: This action lists two substitutes for ozone-depleting substances (ODSs) in the fire suppression and explosion protection sector as acceptable (subject to use restrictions) under the U.S. Environmental Protection Agency's (EPA) Significant New Alternatives Policy (SNAP) program. SNAP implements section 612 of the Clean Air Act, as amended in 1990, which requires EPA to evaluate substitutes for the ODSs to reduce overall risk to human health and the environment. Through these evaluations, SNAP generates lists of acceptable and unacceptable substitutes for each of the major industrial use sectors. The intended effect of the SNAP program is to expedite movement away from ozone-depleting compounds while avoiding a shift into substitutes posing other environmental problems.

On March 18, 1994, EPA promulgated a final rulemaking setting forth its plan for administering the SNAP program (59 FR 13044), and has since issued decisions on the acceptability and unacceptability of a number of substitutes. In this Final Rulemaking (FRM), EPA is issuing its decisions on the acceptability of halon substitutes in the fire suppression and explosion protection sector that were included in a notice of proposed rulemaking published on February 18, 1999 (64 FR 8038) and a correction to the February 18 proposal that was published on March 25, 1999 (64 FR 14417). To arrive at determinations on the acceptability of substitutes, the Agency completed a cross-media evaluation of risks to human health and the environment by sector end-use.

EFFECTIVE DATE: May 26, 2000.

ADDRESSES: Information relevant to this rulemaking is available in Docket A-91-42, U.S. Environmental Protection Agency, OAR Docket and Information Center, 401 M Street, S.W., Room M-1500, Mail Code 6102, Washington, D.C. 20460. The docket may be inspected between 8 a.m. and 5:30 p.m. on weekdays. Telephone (202) 260-7548; fax (202) 260-4400. As provided in 40 CFR part 2, a reasonable fee may be charged for photocopying.

FOR FURTHER INFORMATION CONTACT: Meg Victor at (202) 564-9193 or fax (202) 565-2096, U.S. Environmental Protection Agency, Stratospheric Protection Division, Mail Code 6205J, Washington, D.C. 20460. Overnight or courier deliveries should be sent to the office location at 501 3rd Street, NW, Washington, DC, 20001. The Stratospheric Protection Hotline at (800) 296-1996. EPA's Ozone Depletion World Wide Web site at “http://www.epa.gov/ozone/title6/snap/”.

SUPPLEMENTARY INFORMATION: This action is divided into four sections:

I. Section 612 Program

A. Statutory Requirements

B. Regulatory History

II. Listing of Substitutes

III. Administrative Requirements

IV. Additional Information

I. Section 612 Program

A. Statutory Requirements

Section 612 of the Clean Air Act (CAA) authorizes EPA to develop a program for evaluating alternatives to ozone-depleting substances. EPA is referring to this program as the Significant New Alternatives Policy (SNAP) program. The major provisions of section 612 are:

• Rulemaking—Section 612(c) requires EPA to promulgate rules making it unlawful to replace any class I (chlorofluorocarbon, halon, carbon tetrachloride, methyl chloroform, methyl bromide, and hydrobromofluorocarbon) or class II (hydrochlorofluorocarbon) substance with any substitute that the Administrator determines may present adverse effects to human health or the environment where the Administrator has identified an alternative that (1) reduces the overall risk to human health and the environment, and (2) is currently or potentially available.

• Listing of Unacceptable/Acceptable Substitutes—Section 612(c) also requires EPA to publish a list of the substitutes unacceptable for specific uses. EPA must publish a corresponding list of acceptable alternatives for specific uses.

• Petition Process—Section 612(d) grants the right to any person to petition EPA to add a substitute to or delete a substitute from the lists published in accordance with section 612(c). The Agency has 90 days to grant or deny a petition. Where the Agency grants the petition, EPA must publish the revised lists within an additional six months.

• 90-day Notification—Section 612(e) directs EPA to require any person who produces a chemical substitute for a class I substance to notify the Agency not less than 90 days before new or existing chemicals are introduced into interstate commerce for significant new uses as substitutes for a class I substance. The producer must also provide the Agency with the producer's health and safety studies on such substitutes.

• Outreach—Section 612(b)(1) states that the Administrator shall seek to maximize the use of federal research facilities and resources to assist users of class I and II substances in identifying and developing alternatives to the use of such substances in key commercial applications.

• Clearinghouse—Section 612(b)(4) requires the Agency to set up a public clearinghouse of alternative chemicals, product substitutes, and alternative manufacturing processes that are available for products and manufacturing processes which use class I and II substances.

B. Regulatory History

On March 18, 1994, EPA published a final rule (59 FR 13044) which described the process for administering the SNAP program and issued EPA's first acceptability lists for substitutes in the major industrial use sectors. These sectors include: refrigeration and air conditioning; foam blowing; solvents cleaning; fire suppression and explosion protection; sterilants; aerosols; adhesives, coatings and inks; and tobacco expansion. These sectors comprise the principal industrial sectors that historically consumed large volumes of ozone-depleting compounds.

The Agency defines a “substitute” as any chemical, product substitute, or alternative manufacturing process, whether existing or new, that could replace a class I or class II substance. Anyone who produces a substitute must provide the Agency with health and safety studies on the substitute at least 90 days before introducing it into interstate commerce for significant new use as an alternative. This requirement applies to chemical manufacturers, but may include importers, formulators, or end-users when they are responsible for introducing a substitute into commerce.

II. Listing of Substitutes

To develop the lists of unacceptable and acceptable substitutes, EPA conducts screens of health and environmental risk posed by various substitutes for ozone-depleting compounds in each use sector. The outcome of these risk screens can be found in the public docket, as described above in the Addresses portion of this document.

Under section 612, the Agency has considerable discretion in the risk management decisions it can make in SNAP. The Agency has identified four possible decision categories: acceptable; acceptable subject to use conditions; acceptable subject to narrowed use limits; and unacceptable. Fully acceptable substitutes, i.e., those with no restrictions, can be used for all applications within the relevant sector end-use. Conversely, it is illegal to replace an ODS with a substitute listed by SNAP as unacceptable.

After reviewing a substitute, the Agency may make a determination that a substitute is acceptable only if certain conditions of use are met to minimize risk to human health and the environment. Such substitutes are described as “acceptable subject to use conditions.” Use of such substitutes without meeting associated use conditions renders these substitutes unacceptable and subjects the user to enforcement for violation of section 612 of the Clean Air Act.

Even though the Agency can restrict the use of a substitute based on the potential for adverse effects, it may be necessary to permit a narrowed range of use within a sector end-use because of the lack of alternatives for specialized applications. Users intending to adopt a substitute acceptable with narrowed use limits must ascertain that other acceptable alternatives are not technically feasible. Companies must document the results of their evaluation, and retain the results on file for the purpose of demonstrating compliance. This documentation shall include descriptions of substitutes examined and rejected, processes or products in which the substitute is needed, reason for rejection of other alternatives, e.g., performance, technical or safety standards, and the anticipated date other substitutes will be available and projected time for switching to other available substitutes. Use of such substitutes in applications and end-uses which are not specified as acceptable in the narrowed use limit renders these substitutes unacceptable.

EPA does not believe that notice and comment rulemaking procedures are required to list alternatives as acceptable with no restrictions. Such listings do not impose any sanction, nor do they remove any prior license to use a substitute. Consequently, EPA adds substitutes to the list of acceptable alternatives without first requesting comment on new listings. Updates to the acceptable lists are published as separate Notices of Acceptability in the Federal Register.

In this final rule, EPA is issuing its decision on the acceptability (subject to use restrictions) of certain substitutes in the fire suppression and explosion protection sector. Today's rule incorporates decisions that were proposed on February 18, 1999 at 64 FR 8038 (referred to hereinafter as “the proposal”). A correction to the proposal was published on March 25, 1999 (64 FR 14417). As described in the original March 18, 1994 rule for the SNAP program (59 FR 13044), EPA believes that notice-and-comment rulemaking is required to place any alternative on the list of prohibited substitutes, to list a substitute as acceptable only under certain use conditions or narrowed use limits, or to remove an alternative from either the list of prohibited or acceptable substitutes.

The section below presents a detailed discussion of the fire suppression and explosion protection substitute listing determinations that are finalized in today's Final Rule. Tables summarizing these listing decisions are in Appendix I. The comments contained in Appendix I provide additional information on substitutes determined to be either unacceptable, acceptable subject to narrowed use limits, or acceptable subject to use conditions. Since the comments contained in the appendix are not part of the regulatory decision, they are not mandatory for use of a substitute. Nor should such comments be considered comprehensive with respect to other legal obligations pertaining to the use of the substitute. However, EPA encourages users of substitutes to apply all such comments in their application of these substitutes, regardless of any regulatory requirements. In many instances, these comments simply allude to sound operating practices that have already been identified in existing industry and/or building-code standards. Thus, many of these comments, if adopted, would not require significant changes in existing operating practices for the affected industry.

A. Listing Decisions—Fire Suppression and Explosion Protection

1. Acceptable Subject to Use Conditions

a. Total Flooding Agents. IG-100 is acceptable as a halon 1301 substitute for total flooding applications. IG-100, which is composed of 100% nitrogen, is designed to lower the oxygen level in a protected area to a level that does not support combustion. Typically most combustibles will not burn once the oxygen concentration reaches 15% or below. Since the oxygen level during fire suppression is designed to be lower than atmospheric, EPA is applying specific use conditions designed to protect employees and workplace personnel who may be present in areas where IG-100 is discharged. The conditions specify design requirements for IG-100 systems that are meant to assure that sufficient oxygen will be available to workplace personnel.

These precautionary requirements are supported by medical specialists who have investigated human responses to inert gas fire suppression systems. They are consistent with conditions EPA has specified in approving other inert gas total flooding agents under the SNAP program. They are also consistent with worker safety conditions required by the Occupational Safety and Health Administration (OSHA) and standards developed by the National Fire Protection Association: NFPA 2001 Standard on Clean Agent fire Extinguishing Systems. (NFPA is a non-regulatory organization that publishes consensus codes and standards on fire safety issues for voluntary use.

The use conditions referenced here, which are conditions of acceptability under SNAP, are intended to protect worker safety in the absence of OSHA and other workplace limits. EPA has no intention of duplicating or displacing OSHA coverage related to the use of personal protective equipment (e.g., respiratory protection), fire protection, hazard communication, worker training or any other occupational safety and health standard. As suggested by the court in Southern Pacific Transp. Co. v. Usery, 539 F.2nd 386 (5th Cir.1976), “the scope of the exemption created by [OSHA] Section 4(b)(1) is determined by the [Agency's] intent.”

In accordance with the National Technology Transfer and Advancement Act of 1995 (NTTAA), section 12(d), EPA has worked in consultation with OSHA to encourage development of technical standards to be adopted by voluntary consensus standards setting bodies.

In the original March 18, 1994 SNAP rulemaking (59 FR 13099), the Agency made clear that in cases like this (where EPA finds acceptable the use of an agent only under certain conditions), EPA has sought to avoid overlap with other existing regulatory authorities. In setting conditions for the safe use of halon substitutes in the workplace under SNAP, EPA has specifically deferred to OSHA's other regulations that govern workplace safety. As stated in the preamble to the original SNAP rule at 59 FR 13099, “EPA has no intention to assume responsibility for regulating workplace safety especially with respect to fire protection, nor does the Agency intend SNAP regulations to bar OSHA from regulating under its Public Law 91-596 authority.”

2. Acceptable Subject to Narrowed Use Limits

a. Streaming Agents. HCFC Blend E is acceptable as a halon 1211 substitute for streaming agent uses in nonresidential applications. This agent is a blend of an HCFC, an HFC, and an additive. The primary constituent, an HCFC, is currently listed as acceptable for use in non-residential streaming applications. The secondary constituent, an HFC, is listed acceptable as a flooding agent subject to use conditions.

Halocarbon fire extinguishing agents (including HFCs, HCFCs, PFCs and CF3I) break down into hazardous decomposition products as they are exposed to a fire. Halogen acids, in particular hydrogen fluoride, are the decomposition products of most concern because of their potential toxicity to humans. Users should avoid breathing gases produced by thermal decomposition of the agents, and evacuate and ventilate the area immediately after use. As with other halocarbon agents, EPA recommends that the potential human health risks associated with the use of HCFC Blend E, as well as handling procedures to reduce such risk, be clearly labeled on each extinguisher containing this blend. See the extinguisher marking requirements in Underwriters Laboratories Inc. Standard for Safety for Halocarbon Clean Agent Fire Extinguishers (UL 2129).

Additionally, section 610(d) of the Clean Air Act and its implementing regulations prohibit the sale and distribution of HCFCs in fire extinguishers for residential applications. (See 61 FR 64424, December 4, 1996, and 58 FR 69637, December 30, 1993.)

EPA has reviewed the potential environmental impacts of this blend and has concluded that, by comparison to halon 1211, it significantly reduces overall risk to the environment, particularly with respect to its ozone-depletion potential. The ozone-depletion potential of the HCFC in this blend is 0.02; no other constituent in the blend has ozone-depleting characteristics. Although there are clean agent substitutes acceptable for halon 1211, there are no commercially available alternatives for this end-use with zero ozone-depletion potential, low toxicity, and low global warming potential that provide ample fire suppression capabilities. EPA's review of environmental and human health impacts of this blend is contained in the public docket for this rulemaking.

B. Response to Comments

No comments were received on the proposal (64 FR 8038; February 18, 1999) or the correction to the proposal (64 FR 14417; March 25, 1999).

III. Administrative Requirements

A. Executive Order 12866

Under Executive Order 12866, (58 FR 51735; October 4, 1993) the Agency must determine whether the regulatory action is “significant” and therefore subject to OMB review and the requirements of the Executive Order. The Order defines “significant regulatory action” as one that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlement, grants, user fees, or loan programs or the rights and obligations of recipients thereof; or (4) raise novel legal or policy issues arising out of legal mandates, the President's priorities, or the principles set forth in the Executive Order.

Pursuant to the terms of Executive Order 12866, OMB notified EPA that it considers this a “significant regulatory action” within the meaning of the Executive Order and EPA submitted this action to OMB for review. Changes made in response to OMB suggestions or recommendations will be documented in the public record.

B. Unfunded Mandates Act

Section 202 of the Unfunded Mandates Reform Act of 1995 (“Unfunded Mandates Act”) (signed into law on March 22, 1995) requires that the Agency prepare a budgetary impact statement before promulgating a rule that includes a Federal mandate that may result in expenditure by state, local, and tribal governments, in aggregate, or by the private sector, of $100 million or more in any one year. Section 203 requires the Agency to establish a plan for obtaining input from and informing, educating, and advising any small governments that may be significantly or uniquely affected by the rule. Section 204 requires the Agency to develop a process to allow elected state, local, and tribal government officials to provide input in the development of any action containing a significant Federal intergovernmental mandate. Under section 205 of the Unfunded Mandates Act, the Agency must identify and consider a reasonable number of regulatory alternatives before promulgating a rule for which a budgetary impact statement is prepared. The Agency must select from those alternatives the least costly, most cost-effective, or least burdensome alternative that achieves the objectives of the rule, unless the Agency explains why this alternative is not selected or the selection of this alternative is inconsistent with law.

Because this final rule is estimated to result in the expenditure by State, local, and tribal governments or the private sector of less than $100 million in any one year, the Agency has not prepared a budgetary impact statement or specifically addressed the selection of the least costly, most cost-effective, or least burdensome alternative. Because small governments will not be significantly or uniquely affected by this rule, the Agency is not required to develop a plan with regard to small governments. Finally, because this FRM does not contain a significant intergovernmental mandate, the Agency is not required to develop a process to obtain input from elected state, local, and tribal officials.

C. Regulatory Flexibility

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions. This rule would not have a significant impact on a substantial number of small entities because costs of the SNAP requirements as a whole are expected to be minor. In fact, this rule offers regulatory relief to small businesses by providing alternatives to phased-out ozone-depleting substances. EPA has determined that it is not necessary to prepare a regulatory flexibility analysis in connection with this final rule. The actions herein may well provide benefits for small businesses anxious to examine potential substitutes to any ozone-depleting class I and class II substances they may be using, by requiring manufacturers to make information on such substitutes available. Therefore, I certify that this action will not have a significant economic impact on a substantial number of small entities.

D. Paperwork Reduction Act

EPA has determined that this final rule contains no information requirements subject to the Paperwork Reduction Act, 44 U.S.C. 3501 et seq., that are not already approved by the Office of Management and Budget (OMB). OMB has reviewed and approved two Information Collection Requests (ICRs) by EPA which are described in the March 18, 1994 rulemaking (59 FR 13044, at 13121, 13146-13147) and in the October 16, 1996 rulemaking (61 FR 54030, at 54038-54039). These ICRs included five types of respondent reporting and record-keeping activities pursuant to SNAP regulations: submission of a SNAP petition, filing a SNAP/TSCA Addendum, notification for test marketing activity, record-keeping for substitutes acceptable subject to narrowed use limits, and record-keeping for small volume uses. The OMB Control Numbers are 2060-0226 and 2060-0350.

E. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

F. Executive Order 13045: “Protection of Children from Environmental Health Risks and Safety Risks”

Executive Order 13045: “Protection of Children from Environmental Health Risks and Safety Risks” (62 FR 19885, April 23, 1997) applies to any rule that: (1) Is determined to be “economically significant” as defined under E.O. 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This final rule is not subject to the Executive Order because it is not economically significant as defined in E.O. 12866, and because the Agency does not have reason to believe the environmental health or safety risks addressed by this action present a disproportionate risk to children, as the exposure limits and acceptability listings in this final rule primarily apply to the workplace.

G. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This final rule will not have substantial direct effects on the States, on the relationship between the national government and the States, or on the distribution of power and responsibilities among the various levels of government, as specified in Executive Order 13132. Thus, the requirements of section 6 of the Executive Order do not apply to this rule.

H. Executive Order 13084: Consultation and Coordination With Indian Tribal Governments

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments, because this regulation applies directly to facilities that use these substances and not to governmental entities. Accordingly, the requirements of section 3(b) of Executive Order 13084 do not apply to this rule.

I. National Technology Transfer and Advancement Act

The National Technology Transfer and Advancement Act of 1995 (NTTAA), section 12(d), Public Law 104-113, requires federal agencies and departments to use technical standards that are developed or adopted by voluntary consensus standards bodies, using such technical standards as a means to carry out policy objectives or activities determined by the agencies and departments. If use of such technical standards is inconsistent with applicable law or otherwise impractical, a federal agency or department may elect to use technical standards that are not developed or adopted by voluntary consensus standards bodies if the head of the agency or department transmits to the Office of Management and Budget an explanation of the reasons for using such standards.

This rule does not mandate the use of any technical standards; accordingly, the NTTAA does not apply to this rule. However, this rule does make use of the NFPA 2001 Standard on Clean Agent Fire Extinguishing Systems. EPA has worked in consultation with OSHA to encourage development of technical standards to be adopted by voluntary consensus standards bodies.

IV. Additional Information

For copies of the comprehensive SNAP lists or additional information on SNAP, contact the Stratospheric Protection Hotline at (800) 296-1996, Monday-Friday, between the hours of 10:00 a.m. and 4:00 p.m. (EST).

For more information on the Agency's process for administering the SNAP program or criteria for evaluation of substitutes, refer to the SNAP final rulemaking published in the Federal Register on March 18, 1994 (59 FR 13044). Notices and rulemakings under the SNAP program, as well as EPA publications on protection of stratospheric ozone, are available from EPA's Ozone Depletion World Wide Web site at “http://www.epa.gov/ozone /title6/snap/” and from the Stratospheric Protection Hotline number as listed above.

List of Subjects in 40 CFR Part 82

Environmental protection, Administrative practice and procedure, Air pollution control, Reporting and recordkeeping requirements.

Dated: April 20, 2000.
Carol M. Browner,
Administrator.

For the reasons set out in the preamble, 40 CFR part 82 is amended as follows:

PART 82—PROTECTION OF STRATOSPHERIC OZONE

1. The authority citation for Part 82 continues to read as follows:

Authority: 42 U.S.C. Sec. 7414, 7601, 7671—7671q.

2. Subpart G is amended by adding the following Appendix I to read as follows:

Subpart G—Significant New Alternatives Policy Program

* * * * *

Appendix I to Subpart G—Substitutes Subject to Use Restrictions, Listed in the April 26, 2000, Final Rule, Effective May 26, 2000

Fire Suppression and Explosion Protection—Total Flooding Agents
[Substitutes Acceptable Subject to Use Conditions]
End Use | Substitute | Decision | Conditions | Comments
Halon 1301 Total Flooding Systems | IG-100 | Acceptable | IG-100 systems should be designed to maintain an oxygen level of 10%. A design concentration of less than 10% may only be used in normally unoccupied areas and in areas where egress is possible within 30 seconds If it is not possible to egress an area within one minute, IG-100 systems must be designed to maintain an oxygen level of 12% If the possibility exists for oxygen levels to drop below 10%, employees must be evacuated prior to such oxygen depletion. | IG-100 systems must include alarms and warning mechanisms. Workplace personnel and employees should not remain in or re-enter the area after system discharge (even if such discharge is accidental) without appropriate personal protective equipment. See additional comments 1, 2, 3.
Additional Comments:
1. Should conform with OSHA 29 CFR 1910, Subpart L, Section 1910.160.
2. Per OSHA requirements, protective gear (SCBA) should be available in the event personnel must re-enter the area.
3. EPA has no intention of duplicating or displacing OSHA coverage related to the use of personal protective equipment (e.g., respiratory protection), fire protection, hazard communication, worker training or any other occupational safety and health standard with respect to EPA's regulation of halon substitutes.

Fire Suppression and Explosion Protection—Streaming Agents
[Substitutes Acceptable Subject to Narrowed Use Limits]
End Use | Substitute | Decision | Limitations | Comments
Halon 1211 Streaming Agents | HCFC Blend E | Acceptable | Nonresidential uses only | As with other streaming agents, EPA recommends that potential risks of combustion byproducts be labeled on the extinguisher (see UL 2129). See additional comments 1, 2.
Additional Comments:
1. Discharge testing and training should be strictly limited only to that which is essential to meet safety or performance requirements.
2. The agent should be recovered from the fire protection system in conjunction with testing or servicing, and recycled for later use or destroyed.

[FR Doc. 00-10422 Filed 4-25-00; 8:45 am]

BILLING CODE 6560-50-U